NUCLEAR REGULATORY COMMISSION

[Docket No. 50-259; NRC-2009-0490]

Tennessee Valley Authority; Notice of Withdrawal of Application for Amendment to Facility Operating License

The U.S. Nuclear Regulatory Commission (the Commission) has granted the request of Tennessee Valley Authority (the licensee) to withdraw its application dated July 18, 2008, as supplemented by letter dated December 5, 2008, for proposed amendment to Renewed Facility Operating License No. DPR-33 for the Browns Ferry Nuclear Plant, Unit 1, located in Limestone County, Alabama.

The proposed amendment would have revised the Technical Specifications (TS) to lower the numeric values of safety limit minimum critical power ratio (SLMCPR) in TS Section 2.1.1.2 for single and two reactor recirculation loop operation to incorporate the results of the Unit 1 Cycle 8 SLMCPR analysis.

The Commission had previously issued a Notice of Consideration of Issuance of Amendment published in the Federal Register on November 18, 2008 (73 FR 68456). However, by letter dated October 23, 2009, the licensee withdrew the proposed change.

For further details with respect to this action, see the application for amendment dated July 18, 2008, as supplemented by letter dated December 5, 2008, and the licensee's letter dated October 23, 2009, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 3rd day of November 2009.
For the Nuclear Regulatory Commission.
Eva A. Brown,
Senior Project Manager, Plant Licensing Branch II-2, Division of Operating Reactor Licensing, Office of Nuclear Reactor Regulation.

[FR Doc. E9-27284 Filed 11-12-09; 8:45 am]

BILLING CODE 7590-01-P